DEPARTMENT OF COMMERCE

International Trade Administration

[A-570-104]

Alloy and Certain Carbon Steel Threaded Rod From the People's Republic of China: Preliminary Results of Antidumping Duty Administrative Review and Rescission of Administrative Review, in Part; 2021-2022

AGENCY: Enforcement and Compliance, International Trade Administration, Department of Commerce.

SUMMARY: The U.S. Department of Commerce (Commerce) preliminarily finds that Ningbo Dongxin High-Strength Nut Co., Ltd. (Ningbo Dongxin), is not eligible for a separate rate. The period of review (POR) is April 1, 2021, through March 31, 2022. Commerce is also rescinding the review with respect to Ningbo Zhongjiang High Strength Bolts Co., Ltd. (Zhongjiang Bolts). Interested parties are invited to comment on these preliminary results of review.

DATES: Applicable December 22, 2022.

FOR FURTHER INFORMATION CONTACT: Allison Hollander or Bryan Hansen, AD/CVD Operations, Office I, Enforcement and Compliance, International Trade Administration, U.S. Department of Commerce, 1401 Constitution Avenue NW, Washington, DC 20230; telephone: (202) 482-2805 or (202) 482-3683, respectively.

SUPPLEMENTARY INFORMATION:

Background

On April 21, 2020, Commerce published in the Federal Register the antidumping duty (AD) order on alloy and certain carbon steel threaded rod (threaded rod) from the People's Republic of China (China).¹ On April 1, 2022, Commerce published in the Federal Register a notice of opportunity to request an administrative review of the Order.² On June 9, 2022, based on timely requests for an administrative review, Commerce initiated the administrative review of the Order.³ The administrative review covers two companies, including one mandatory respondent, Ningbo Dongxin.

¹ See Alloy and Certain Carbon Steel Threaded Rod from the People's Republic of China: Antidumping Duty Order, 85 FR 19929 (April 9, 2020) (Order).

² See Antidumping or Countervailing Duty Order, Finding, or Suspended Investigation; Opportunity to Request Administrative Review, 87 FR 19075 (April 1, 2021).

³ See Initiation of Antidumping and Countervailing Duty Administrative Reviews, 87 FR 35165, 35170 (June 9, 2022) (Initiation Notice).

Scope of the Order

The products covered by this Order are threaded rod. A full description of the scope of the Order is provided in the Preliminary Decision Memorandum.⁴

⁴ See Memorandum, “Decision Memorandum for the Preliminary Results of the Administrative Review of the Antidumping Duty Order on Alloy and Certain Carbon Steel Threaded Rod from the People's Republic of China; 2021-2022,” dated concurrently with, and hereby adopted by, this notice (Preliminary Decision Memorandum).

Rescission of Administrative Review, in Part

Pursuant to 19 CFR 351.213(d)(1), Commerce will rescind an administrative review, in whole or in part, if the party that requested a review withdraws its request within 90 days of the date of publication of the notice of initiation. On June 21, 2022, Zhongjiang Bolts timely withdrew its request for review.⁵ Because no other party requested an administrative review of Zhongjiang Bolts, Commerce is rescinding this administrative review, in part, with respect to Zhongjiang Bolts, in accordance with 19 CFR 351.213(d)(1).

⁵ See Zhongjiang Bolts' Letter, “Zhongjiang Withdrawal of Request for Administrative Review,” dated June 21, 2022.

China-Wide Entity

Under Commerce's policy regarding the conditional review of the China-wide entity,⁶ the China-wide entity will not be under review unless a party specifically requests, or Commerce self-initiates, a review of the entity. Because no party requested a review of the China-wide entity in this review, the entity is not under review, and the entity's rate (i.e., 48.91 percent) is not subject to change.⁷ We find the mandatory respondent, Ningbo Dongxin, to be a part of the China-wide entity in the instant review because it failed to submit a timely response to the initial AD questionnaire, thereby failing to establish its eligibility for a separate rate.⁸

⁶ See Antidumping Proceedings: Announcement of Change in Department Practice for Respondent Selection in Antidumping Duty Proceedings and Conditional Review of the Nonmarket Economy Entity in NME Antidumping Duty Proceedings, 78 FR 65963 (November 4, 2013).

⁷ See Order.

⁸ See Preliminary Decision Memorandum at 5.

Methodology

Commerce is conducting this review in accordance with section 751(a)(1)(B) of the Act. For a full description of the methodology underlying our conclusions, see the Preliminary Decision Memorandum. The Preliminary Decision Memorandum is a public document and is on file electronically via Enforcement and Compliance's Antidumping and Countervailing Duty Centralized Electronic Service System (ACCESS). ACCESS is available to registered users at https://access.trade.gov. A list of topics discussed in the Preliminary Decision Memorandum is included as an appendix to this notice. In addition, a complete version of the Preliminary Decision Memorandum can be found at https://access.trade.gov/public/FRNoticesListLayout.aspx.

Disclosure

Normally, Commerce discloses to the parties in a proceeding the calculations performed in connection with preliminary results of review within five days after public announcement of preliminary results of review in accordance with 19 CFR 351.224(b).⁹ However, because Commerce did not calculate a margin for the sole mandatory respondent, there are no calculations to disclose for the preliminary results of review.

⁹ See 19 CFR 351.224(b).

Public Comment

Pursuant to 19 CFR 351.309(c), interested parties case briefs no later than 30 days after the date of publication of these preliminary results of review.¹⁰ Rebuttals to case briefs may be filed no later than seven days after the case briefs are filed, and all rebuttal comments must be limited to comments raised in the case briefs.¹¹ Note that Commerce has temporarily modified certain of its requirements for serving documents containing business proprietary information until further notice.¹²

¹⁰ See 19 CFR 351.309(c).

¹¹ See 19 CFR 351.309(d).

¹² See Temporary Rule Modifying AD/CVD Service Requirements Due to COVID-19; Extension of Effective Period, 85 FR 29615 (May 18, 2020); and Temporary Rule Modifying AD/CVD Service Requirements Due to COVID-19; Extension of Effective Period, 85 FR 41363 (July 10, 2020).

Pursuant to 19 CFR 351.309(c)(2) and (d)(2), parties who submit case briefs or rebuttal briefs in this proceeding are encouraged to submit with each argument: (1) a statement of the issue; (2) a brief summary of the argument; and (3) a table of authorities.¹³

¹³ See 19 CFR 351.309(c)(2) and (d)(2); see also 19 CFR 351.303 (for general filing requirements).

Pursuant to 19 CFR 351.310(c), interested parties who wish to request a hearing, limited to issues raised in the case and rebuttal briefs, must submit a written request to the Assistant Secretary for Enforcement and Compliance, U.S. Department of Commerce, within 30 days after the publication of this notice. Requests should contain the party's name, address, telephone number, the number of participants, whether any participant is a foreign national, and a list of the issues to be discussed. If a request for a hearing is made, Commerce intends to hold the hearing at a time and date to be determined. Parties should confirm by telephone the date, time, and location of the hearing two days before the scheduled date.

Unless the deadline is extended, Commerce intends to issue the final results of this review, including the results of its analysis of the issues raised in any written briefs, no later than 120 days after the date of publication of this notice, pursuant to section 751(a)(3)(A) of the Act and 19 CFR 351.213(h).

Assessment Rates

Upon issuing the final results, Commerce will determine, and CBP shall assess, antidumping duties on all appropriate entries covered by this review.¹⁴

¹⁴ See 19 CFR 351.212(b)(1).

Because Commerce is rescinding this administrative review, in part, with respect to Zhongjiang Bolts, Commerce will instruct CBP to assess antidumping duties on all appropriate entries of threaded rod from China exported by Zhongjiang Bolts during the POR at the rate equal to the cash deposit of estimated antidumping duties required at the time of entry, or withdrawal from warehouse, for consumption, in accordance with 19 CFR 351.212(c)(1)(i).

If the preliminary results are unchanged for the final results, we will instruct CBP to apply an ad valorem assessment rate of 48.91 percent to all entries of subject merchandise during the POR which were exported by Ningbo Dongxin.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this review for shipments of the subject merchandise from China entered, or withdrawn from warehouse, for consumption on or after the publication date, as provided by section 751(a)(2)(C) of the Act: (1) for Ningbo Dongxin, that has not been found to be entitled to a separate rate, the cash deposit rate will be that for the China-wide entity; (2) for previously investigated or reviewed Chinese and non-Chinese exporters that received a separate rate in a prior segment of this proceeding, the cash deposit rate will continue to be the existing exporter-specific rate; (3) for all Chinese exporters of subject merchandise that have not been found to be entitled to a separate rate, the cash deposit rate will be that for the China-wide entity; and (4) for all non-Chinese exporters of subject merchandise which have not received their own rate, the cash deposit rate will be the rate applicable to the Chinese exporter that supplied that non-Chinese exporter. These deposit requirements, when imposed, shall remain in effect until further notice.

Notification to Importers

This notice serves as a preliminary reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Notification to Interested Parties

Commerce is issuing and publishing the preliminary results of this review in accordance with sections 751(a)(1)(B), 751(a)(3) and 777(i) of the Act, and 19 CFR 351.213 and 351.221(b)(4).

Dated: December 13, 2022.
Lisa W. Wang,
Assistant Secretary for Enforcement and Compliance.

Appendix I—List of Topics Discussed in the Preliminary Decision Memorandum

I. Summary

II. Background

III. Scope of the Order

IV. Discussion of the Methodology

V. Recommendation

[FR Doc. 2022-27837 Filed 12-21-22; 8:45 am]

BILLING CODE 3510-DS-P